DEPARTMENT OF COMMERCE

National Oceanic and Atmospheric Administration

[Docket Number: 080411558-8559-01]

Draft Revision of the NOAA Hurricane Forecasting Improvement Project Plan

AGENCY: National Oceanic and Atmospheric Administration (NOAA), Department of Commerce (DOC).

ACTION: Notice of availability and request for public comment.

SUMMARY: NOAA publishes this notice to announce the availability of the draft NOAA Hurricane Forecasting Improvement Project Plan for public comment. The Plan has been written to document NOAA's commitment to work with its partners in hurricane research and development to improve its capabilities to forecast hurricanes.

DATES: Comments on this draft document must be submitted by 5 p.m. EDT on May 27, 2008.

ADDRESSES: The draft NOAA Hurricane Forecasting Improvement Project Plan will be available on the NOAA Research Council Web site at http://www.nrc.noaa.gov/HFIPDraftPlan.html.

The public is encouraged to submit comments electronically to noaa.review.hfip_plan@noaa.gov. For individuals who do not have access to the internet, comments may be submitted by mail to: NOAA Research, c/o Mr. Roger Pierce, Silver Spring Metro Center Bldg. 3, Room 11412, R/PPE, 1315 East-West Highway, Silver Spring, Maryland 20910.

FOR FURTHER INFORMATION CONTACT: Mr. Roger Pierce, Silver Spring Metro Center Bldg. 3, Room 11314, R/PPE, 1315 East-West Highway, Silver Spring, Maryland 20910. (Phone 301-734-1062, Fax: 301-713-0158, E-mail: roger.pierce@noaa.gov), during normal business hours of 9 a.m. to 5 p.m. Eastern Time, Monday through Friday.

SUPPLEMENTARY INFORMATION: NOAA is publishing this notice to announce the availability of the draft NOAA Hurricane Forecasting Improvement Project Plan for public comment. The NOAA is seeking public comment from all interested parties. The NOAA Hurricane Forecasting Improvement Project Plan draft is being issued for comment only and is not intended for interim use. Suggested changes will be incorporated where appropriate, and the final document will be posted on a NOAA Web site.

The NOAA Hurricane Forecasting Improvement Project Plan is being is being developed to reflect the evolution of NOAA's research activities and priorities. The draft NOAA Hurricane Forecasting Improvement Project Plan is consistent with the NOAA Science Advisory Board, Hurricane Intensity Research Working Group recommendations and other recent internal and external reports on hurricanes.

The draft NOAA Hurricane Forecasting Improvement Project Plan frames research in NOAA within the context of societal needs and by working with other government and academic organizations working on critical environmental challenges, particularly those associated with hurricanes, facing the United States today and in the future. This plan states NOAA's priority research areas, such as Hurricane Intensity forecast improvements, improvements in high performance computing, use of new data, for the short term and the milestones by which NOAA intends to measure progress within these areas. Significant topics addressed in the NOAA Hurricane Forecasting Improvement Project Plan include the importance of transition of research to application, the recognition of the value of transformational research, and the engagement and alignment of inter-agency and the larger scientific community efforts toward finding solutions to the challenges posed to improve hurricane forecasts.

NOAA welcomes all comments on the content of the draft NOAA Hurricane Forecasting Improvement Project Plan. We also request comments on any inconsistencies perceived within the document and possible omissions of important topics or issues. For any shortcoming noted within the draft document, please propose specific remedies.

Please follow these instructions for preparing and submitting comments. Using the format guidance described below will facilitate the processing of reviewer comments and assure that all comments are appropriately considered. Overview comments should be provided first. Comments that are specific to particular pages, paragraphs, or lines of the section should follow any overview comments and should identify the page numbers to which they apply. Please number each page of your comments.

Dated: April 21, 2008.
Mark E. Brown,
Chief Financial Officer, Office of Oceanic and Atmospheric Research, National Oceanic and Atmospheric Administration.

[FR Doc. E8-9062 Filed 4-24-08; 8:45 am]

BILLING CODE 3510-KD-P